FEDERAL ELECTION COMMISSION

Sunshine Act Meetings

FEDERAL REGISTER CITATION NOTICE OF PREVIOUS ANNOUNCEMENT: 90 FR 21479.

PREVIOUSLY ANNOUNCED TIME AND DATE OF THE MEETING: Thursday, May 22, 2025 at 10:00 a.m.

CHANGES IN THE MEETING: The meeting scheduled for May 22, 2025 is cancelled.

CONTACT PERSON FOR MORE INFORMATION: Myles Martin, Deputy Press Officer, Telephone: (202) 694-1221.

(Authority: Government in the Sunshine Act, 5 U.S.C. 552b)

Vicktoria J. Allen,
Deputy Secretary of the Commission.

[FR Doc. 2025-09415 Filed 5-21-25; 11:15 am]

BILLING CODE 6715-01-P